DEPARTMENT OF ENERGY

Federal Energy Regulatory Commission

[Docket Nos.: EG08-11-000, EG08-12-000, EG08-13-000, EG08-14-000, EG08-15-000, EG08-16-000, EG08-17-000, EG08-18-000]

Pedricktown Cogeneration Company, LP, McAdoo Energy Wind LLC, Central Power & Lime, Inc., Barton Chapel Wind, LLC, James River Cogeneration Company, Cogentrix Virginia Leasing Corporation, Primary Energy of North Carolina LLC, Langdon Wind, LLC; Notice of Effectiveness of Exempt Wholesale Generator or Foreign Utility Company Status

February 26, 2008.

Take notice that during the month of January 2008, the status of the above-captioned entities as Exempt Wholesale Generators became effective by operation of the Commission's regulations. 18 CFR 366.7(a).

Kimberly D. Bose,
Secretary.

[FR Doc. E8-4160 Filed 3-4-08; 8:45 am]

BILLING CODE 6717-01-P